DEPARTMENT OF ENERGY

Federal Energy Regulatory Commission

[Project No. 3777-011]

Town of Rollinsford, New Hampshire; Notice of Technical Meeting

a. Date and Time of Meeting: November 15, 2021 at 2:00 p.m. Eastern Standard Time via Conference Call.

b. FERC Contact: Bill Connelly at william.connelly@ferc.gov or (202) 502-8587

c. Purpose of Meeting: On August 23, 2021, Commission staff issued the Environmental Assessment (EA) for the Town of Rollinsford, New Hampshire's (Town) Rollinsford Hydroelectric Project No. 3777 (project). On October 19, 2021, the U.S. Fish and Wildlife Service (FWS) requested a meeting to discuss its recommendations to protect the federally threatened northern long-eared bat (NLEB) and to require the Town to notify resource agencies and the Commission of any activity that may affect a federally listed species in a manner not considered in a license. Commission staff is meeting with the Town, FWS, and other interested participants via conference call, to discuss the issues raised by the FWS in its October 19, 2021 letter.

d. Proposed Agenda:

(1) Introduction of participants;

(2) Commission staff explain the purpose of the meeting;

(3) Participants discuss the following recommendations filed by the U.S. Department of the Interior on June 25, 2020:

• Implement a protocol to avoid adverse effects on the NLEB by undertaking one of the following measures: avoid any tree removal activities associated with the operation or maintenance of the Project between April 1 and October 1, or employ a qualified biologist to conduct bat exit surveys to determine if bats are utilizing potential roost trees (i.e., trees greater than 3 inches diameter breast height) slated to be removed. If no bats are observed during the exit surveys, the tree(s) may be removed within 24 hours;

• Notify the agencies and the Commission of any activity that may affect a federally listed species in a manner not considered in the new license; and

(4) Participants discuss issue resolution and follow-up actions.

e. A summary of the meeting will be prepared and filed in the Commission's public file for the project.

f. All local, state, and federal agencies, Indian tribes, and other interested parties are invited to participate by phone. If interested, please contact Bill Connelly at william.connelly@ferc.gov or (202) 502-8587, by November 12, 2021, to receive the conference call number and access code.

Dated: October 29, 2021.
Kimberly D. Bose,
Secretary.

[FR Doc. 2021-24760 Filed 11-12-21; 8:45 am]

BILLING CODE 6717-01-P